FEDERAL EMERGENCY MANAGEMENT AGENCY

44 CFR Part 67

[Docket No. FEMA-D-7524]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Acting Executive Associate Director, Mitigation Directorate, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD) • Elevation in feet (NAVD): Existing | #Depth in feet above ground. *Elevation in feet (NGVD) • Elevation in feet (NAVD): Modified
Connecticut | East Haven (Town), New Haven County | Maloney Brook | Approximately 10 feet upstream of the confluence with Farm River Approximately 50 feet upstream of Foxon Hill Road | *34 | *36
|  |  |  | None | *105
Maps available for inspection at the East Haven Public Works Building, 461 North High Street, East Haven, Connecticut.
Send comments to The Honorable Joseph Maturo, Jr., Mayor of the Town of East Haven, Town Hall, 250 Main Street, East Haven, Connecticut 06512.
Florida | Belleair (Town), Pinellas County | Gulf of Mexico | Approximately 1,100 feet northwest of the intersection of Corbett Street and Druid Road | • 13 | • 16
|  |  | Approximately 300 feet south of the intersection of Bellevue Boulevard and Druid Road | • 9 | • 12
Maps available for inspection at the Belleair Town Hall, 901 Ponce De Leon Boulevard, Belleair, Florida.
Send comments to Mr. Stephen Cottrell, Belleair Town Manager, 9091 Ponce De Leon Boulevard, Belleair, Florida 33756.
Florida | Belleair Beach (City), Pinellas County | Gulf of Mexico | At the intersection of Donato Drive and Altea Drive | • 9 | • 11
|  |  | Approximately 300 feet west of the intersection of Harrison Avenue and Gulf Boulevard | • 14 | • 16
Maps available for inspection at the Belleair Beach City Hall, 444 Causeway Boulevard, Belleair Beach, Florida.
Send comments to The Honorable William L. Atteberry, Mayor of the City of Belleair Beach, 444 Causeway Boulevard, Belleair Beach, Florida 33786.
Florida | Belleair Bluffs (City), Pinellas County | Gulf of Mexico | Approximately 300 feet west of the intersection of Renatta Drive and Bluff View Drive | • 10 | • 12
|  |  | Approximately 1,700 feet west of the intersection of Lentz Road and Los Gatos Drive | • 12 | • 14
Maps available for inspection at the Belleair Bluffs City Hall, 115 Florence Drive, Belleair Bluffs, Florida.
Send comments to The Honorable David Coyner, Mayor of the City of Belleair Bluffs, 115 Florence Drive, Belleair Bluffs, Florida 33770-1978.
Florida | Belleair Shore (Town), Pinellas County | Gulf of Mexico | Approximately 300 feet west of the intersection of 13th Street and Gulf Boulevard | • 12 | • 12
|  |  | Approximately 50 feet west of the intersection of 1st Street and gulf Boulevard | • 9 | • 12
Maps available for inspection at the Belleair shore Town Hall, 1200 Gulf Boulevard, Belleair Shore, Florida.
Send comments to The Honorable George Jirotka, Mayor of the Town of Belleair Shore, 1200 Gulf Boulevard, Belleair Shore, Florida 33786.
Florida | Clearwater (City), Pinellas County | Gulf of Mexico | At the intersection of Fulton Avenue and Harbor Drive | • 10 | • 15
|  |  | Approximately 0.4 mile northwest of intersection of Bay Esplanade and Eldorado Avenue | • 15 | • 12
|  | Joe's Creek | Approximately 500 feet downstream of 49th Street North | None | • 24
|  |  | Downstream side of 49th Street North | None | • 25
Maps available for inspection at the city of Clearwater Central Permitting Department, 100 South Myrtle Avenue, Clearwater, Florida.
Send comments to Mr. Michael Roberto, Clearwater City Manger, P.O. Box 4748, Clearwater, Florida 33758-4748.
Florida | Collier County (Unincorporated Areas) | Gulf of Mexico | Approximately 300 feet west of the intersection of Commerce Street and Gulf Shore Drive | • 14 | • 18
|  |  | At the intersection of Seagull Avenue and Vanderbilt Drive | • 10 | • 13
|  |  | Approximately 350 feet east of the intersection of Heights Court and South Barfield Drive | • 10 | • 13
|  |  | At the intersection of Guava Drive and Coconut Circle South | None | • 6
Maps available fro inspection at the Floodplain Management Coordinator's Office, 295 Riverside Circle, Naples, Florida.
Send comments to Mr. Tom Olliff, Collier County Manager, 3301 East Tamiami Trail, Naples, Florida 34112.
Florida | Dunedin (City), Pinellas County | Curlew Creek | At confluence with Intracoastal Waterway | • 14 | • 17
|  |  | Approximately 0.34 mile upstream of County Road 1 | None | • 25
|  | Jerry Branch | At confluence with Curlew Creek | None | • 25
|  |  | Approximately 0.4 mile upstream of Main Street | None | • 47
|  | Gulf of Mexico | Approximately 1.0 mile northwest of the intersection of Edinburgh Drive and Causeway Boulevard | • 15 | • 17
|  |  | Approximately 300 feet west of the intersection of Douglas Avenue and Lyndhurst Street | • 10 | • 11
Maps available for inspection at the City of Dunedin Engineering Department, 737 Louden Street, Dunedin, Florida.
Send comments to Mr. John Lawrence, Dunedin City Manager, P.O. Box 1348, Dunedin, Florida 34697-1348.
Florida | Everglades (City), Collier County | Gulf of Mexico | At the intersection of Jasmine Street and Storter Avenue | • 10 | • 8
|  |  | At the intersection of Evergreen Street and Copeland Avenue | • 9 | • 7
|  |  | At end of Airport Road, where it meets Everglade Airport At intersection of Begonia Street and Buckner Avenue | • 12 • 8 | • 10 • 7
Maps available for inspection at the Everglades City Clerk's Office, 102 Broadway, Everglades, Florida.
Send comments to The Honorable Sammy Hamilton, Mayor of the City of Everglades City, P.O. Box 110, Everglades, Florida 34139.
Florida | Gulfport (City), Pinellas County | Gulf of Mexico Boca Ciega Bay | Approximately 1,500 feet southeast of the intersection of Seabreeze Point Boulevard and Seabird Road | • 12 | • 6
|  |  | Approximately 300 feet east of the intersectionof Pompano Place and Dolphin Boulevard East | • 10 | • 12
Maps available for inspection at the City of Gulfport Public Services Department, 5330 23rd Avenue South, Gulfport, Florida.
Send comments to Mr. Robert E. Lee, Gulfport City Manager, 2401 53rd Street South, Gulfport, Florida 33707.
Florida | Indian Rocks Beach (City), Pinellas County | Gulf of Mexico | Approximately 200 feet west of the intersection of Gulf Boulevard and 27th Avenue | • 9 | • 11
|  |  | At the intersection of 20th Avenue and Bay Boulevard | • 12 | • 15
Maps available for inspection at the Indian Rocks Beach City Hall, 1507 Bay Palm Boulevard, Indian Rocks Beach, Florida.
Send comments to The Honorable Robert Dinicola, Mayor of the City of Indian Rocks Beach, 1507 Bay Palm Boulevard, Indian Rocks Beach, Florida 33785.
Florida | Indian Shores (Town), Pinellas County | Gulf of Mexico | Approximately 200 feet east of the intersection of 200th Avenue and Gulf Boulevard | • 9 | • 11
|  |  | Approximately 250 feet west of the intersection of 199th Avenue and Gulf Boulevard | • 12 | • 15
Maps available for inspection at the Indian Shores Town Hall, 19305 Gulf Boulevard, Indian Shores, Florida.
Send comments to The Honorable Robert G. McEwen, Mayor of the Town of Indian Shores, 19305 Gulf Boulevard, Indian Shores, Florida 33785.
Florida | Kenneth City (Town), Pinellas County | Joe's Creek | Upstream side of 66th Street | • 16 | • 15
|  |  | Approximately 23 miles upstream of 58th Street | • 23 | • 21
Maps available for inspection at the Kenneth City Town Hall, 6000 54th Avenue North, Kenneth City, Florida.
Send comments to The Honorable Maurice Knox, Mayor of the Town of Kenneth City, 6000 54th Avenue North, Kenneth City, Florida 33709.
Florida | Largo (City), Pinellas County | Gulf of Mexico | At the intersection of Indian Rocks Road and Dryer Avenue | • 9 | • 10
|  |  | Approximately 1,200 feet northwest of the intersection of Indian Rocks Road and Kent Drive | • 11 | • 13
Maps available for inspection at the Largo City Hall, Engineering Department, 225 1st Avenue, SW, Largo, Florida.
Send comments to Mr. Steve Stanton, Largo City Manager, P.O. Box 296, Largo, Florida 33779-0296.
Florida | Madeira Beach (City), Pinellas County | Gulf of Mexico | Approximately 100 feet east of the intersection of 154th Avenue and Second Street East | • 9 | • 11
|  |  | Approximately 600 feet southwest of the intersection of 132nd Avenue and Gulf Boulevard | • 15 | • 16
Maps available for inspection at the Madeira Beach Building Department, 300 Municipal Drive, Madeira Beach, Florida.
Send comments to Mr. Kim Leinbach, Madeira Beach City Manager, 300 Municipal Drive, Madeira Beach, Florida 33708.
Florida | Marco Island (City), Collier County | Gulf of Mexico | At intersection of Crescent Street and Thrush Court | • 10 | • 8
|  |  | At the intersection of Honduras Avenue and Stillwater Court | • 9 | • 7
|  |  | At the intersection of Huron Court and Swallow Avenue Approximately 900 feet southwest of intersection of South Barfield Drive and Heights Court | • 14 • 10 | • 16 • 16
Maps available for inspection at the City of Marco Island Manager's Office, 50 Bald Eagle Drive, Marco Island, Florida.
Send comments to Mr. A. William Moss, Manager of the City of Marco Island, 50 Bald Eagle Drive, Marco Island, Florida 34145.
Florida | Naples (City), Collier County | Gulf of Mexico | Approximately 600 feet west of intersection of Yucca Road and Gulf Shore Boulevard North | • 14 | • 6
|  |  | At the intersection of Gordon Drive and Champney Bay Court | • 0 | • 13
|  |  | At the intersection of Yucca Road and Banyan Boulevard | None | • 10
Maps available for inspection at City of Naples and Collier County FEMA Coordinator's Office, 13th Street North, Naples, Florida.
Send comments to Mr. Kevin Rambosk, Manager of the City of Naples, 735 Eighth Street South, Naples, Florida 34102.
Florida | North Redington Beach (Town), Pinellas County | Gulf of Mexico | At the intersection of Rosa Lee Way and 173rd Avenue | • 9 | • 11
|  |  | Approximately 450 feet west of the intersection of 173rd Avenue and Gulf Boulevard | • 12 | • 16
Maps available for inspection at the North Redington Beach Town Hall, 190 173rd Avenue, North Redington Beach, Florida.
Send comments to The Honorable Harold Radcliffe, Mayor of the Town of North Redington Beach, 190 173rd Avenue, North Redington Beach, Florida 33708.
Florida | Pinellas County (Unincorporated Areas) | Brooker Creek Tributary A | At East Lake Road | None | • 6
|  |  | Approximately 0.42 mile upstream of Ridgemoor Boulevard | None | • 16
|  | Brooker Creek Tributary B | At confluence with Brooker Creek Tributary A | None | • 8
|  |  | At Eastlake Woodlands Parkway | None | • 9
|  | Joe's Creek Tributary No. 4 | At confluence with Joe's Creek | • 12 | • 10
|  |  | Approximately 0.25 mile upstream of 53rd Street | • 18 | • 17
|  | Joe's Creek Tributary No. 5 | At 74th Avenue (Park Boulevard) Approximately 0.26 mile upstream of Park Boulevard | None None | • 10 • 10
|  | Miles Creek | At confluence with Joe's Creek Approximately 700 feet downstream of 38th Avenue | • 15 • 15 | • 13 • 13
|  | Hollin Creek Tributary A | Approximately 0.06 mile downstream of Old East Lake Road | None | • 9
|  |  | Approximately 0.29 mile upstream of Crescent Oaks Boulevard | None | • 22
|  | Hollin Creek Tributary A-2 | At confluence with Hollin Creek Tributary A | None | • 19
|  |  | At Dirt Road | None | • 19
|  | Hollin Creek Tributary B | At confluence with Hollin Creek Tributary A | None | • 12
|  |  | At Trinity Boulevard | None | • 21
|  | Jerry Branch | At Brady Drive At the weir on north end of Indigo Drive | None None | • 25 • 47
|  | Joe's Creek | Approximately 1.250 feet downstream of 54th Avenue North | • 11 | • 10
|  |  | At 28th Street North | None | • 45
|  | Curlew Creek | Approximately 0.7 mile upstream of CSX Transportation | • 11 | • 12
|  |  | Approximately 750 feet upstream of County Road 1/Palm Harbor Road | None | • 21
|  | Gulf of Mexico/Boca Ciega Bay | At the intersection of Gulfwinds Drive West and Crosswinds Drive | • 10 | • 11
|  |  | Approximately 300 feet southwest of the intersection of Curlew Place and Florida Avenue | • 16 | • 18
Maps available for inspection at the Pinellas County Zoning Department, 310 Court Street, Clearwater, Florida.
Send comments to Mr. Fred E. Marquis, Pinellas County Administrator, 315 Court Street, Clearwater, Florida 33756.
Florida | Pinellas Park (City), Pinellas County | Joe's Creek Tributary No. 4 | At 62nd Avenue North | • 11 | • 14
|  |  | Approximately 0.25 mile upstream of 53rd Street North | • 18 | • 17
|  | Joe's Creek Tributary No. 5 | Approximately 0.26 mile upstream of Park Boulevard | None | • 10
|  |  | Approximately 0.02 mile upstream of 61st Street North | None | • 16
Maps available for inspection at the City of Pinellas Park Technical Services Building, 6051-78th Avenue North, Pinellas Park, Florida.
Send comments to Mr. Robert Bray, Jr., AICP, City of Pinellas Park Floodplain Manager/Planning Director, P.O. Box 1100, Pinellas Park, Florida 33780-1100.
Florida | Redington Beach (Town), Pinellas County | Gulf of Mexico | At the intersection of East 3rd Street and Redington Drive | • 9 | • 11
|  |  | Approximately 500 feet west of the intersection of Gulf Boulevard and 164th Avenue | • 15 | • 16
Maps available for inspection at the Redington Beach Town Hall, 105 164th Avenue, Redington Beach, Florida.
Send comments to The Honorable Mark Deighton, Mayor of the Town of Redington Beach, 105 164th Avenue, Redington Beach, Florida 33708.
Florida | Redington Shores (Town), Pinellas County | Gulf of Mexico | Approximately 100 feet north of the intersection of 1st Street and Long Point Drive | • 9 | • 11
|  |  | Approximately 600 feet west of intersection of Gulf Boulevard and Coral Avenue | • 14 | • 16
Maps available for inspection at the Redington Shores Town Hall, 17798 Gulf Boulevard, Redington Shores, Florida.
Send comments to The Honorable J. J. Beyrouti, Mayor of the Town of Redington Shores, 17798 Gulf Boulevard, Redington Shores, Florida 33708.
Florida | Seminole (City), Pinellas County | Gulf of Mexico/Boca Ceiga Bay | At the intersection of 94th Street and 46th Avenue North | • 10 | • 11
|  |  | Approximately 400 feet southeast of the intersection of Woodlawn Drive and Seminole Boulevard | • 10 | • 15
Maps available for inspection at the City of Seminole Technical Services Department, 7464 Ridge Road, Seminole, Florida.
Send comments to The Honorable Dottie Reeder, Mayor of the City of Seminole, 7464 Ridge Road, Seminole, Florida 33772.
Florida | South Pasadena (City), Pinellas County | Gulf of Mexico/Boca Ceiga Bay | At the intersection of Gulfport Boulevard and Pasadena Avenue | • 10 | • 12
|  |  | Approximately 500 feet west of the intersection of Sunset Drive and Bigonia Way | • 12 | • 15
Maps available for inspection at the South Pasadena City Hall, 7047 Sunset Drive South, South Pasadena, Florida.
Send comments to The Honorable Fred G. Held, Jr., Mayor of the City of South Pasadena, 7047 Sunset Drive, South Pasadena, Florida 33707.
Florida | Springfield (City), Bay County | Watson Bayou Tributary | Approximately 300 feet south of the intersection of East 2nd Street and Springfield Avenue | None | • 8
Maps available for inspection at the Springfield City Hall, 3529 East Third Street, Springfield, Florida.
Florida | St. Pete Beach (City), Pinellas County | Gulf of Mexico | At the intersection of 80th Way and Blind Pass Road | • 10 | • 11
|  |  | Approximately 600 feet southwest of the intersection of 72nd Avenue and Sunset Avenue | • 15 | • 16
Maps available for inspection at the St. Pete Beach City Hall, 7701 Boca Ciega Drive, St. Pete Beach, Florida.
Send comments to Mr. Carl L. Schwing, St. Pete Beach City Manager, 7701 Boca Ciega Drive, St. Pete Beach, Florida 33706.
Florida | St. Petersburg (City), Pinellas County | Miles Creek | Approximately 700 feet downstream of 38th Avenue | •16 | •13
|  |  | Approximately 0.05 mile upstream of 22nd Avenue and 58th Street | •18 | •19
|  | Gulf of Mexico/Boca Ciega Bay | Approximately 50 feet west of the intersection of Park Street and 24th Avenue North | •10 | •12
|  |  | Approximately 200 feet southwest of the intersection of Sunset Drive North and 31st Terrace North | •13 | •15
Maps available for inspection at the City of St. Petersburg Municipal Services Center, Permit Division, 14th Street North, St. Petersburg, Florida.
Send comments to The Honorable David Fischer, Mayor of the City of St. Petersburg, P.O. Box 2842, St. Petersburg, Florida 33731-2842.
Florida | Tarpon Springs (City), Pinellas County | Gulf of Mexico | Approximately 300 feet south of the intersection of Castleworks Lane and Coldstream Court | •10 | •11
|  |  | Approximately 1,000 feet west of the intersection of Harbor Watch Circle and North Pointe Alexis Drive | •17 | •18
Maps available for inspection at the Tarpon Springs City Hall, 324 East Pine Street, Tarpon Springs, Florida.
Send comments to Mr. Costa F. Vatikiotis, Tarpon Springs City Manager, P.O. Box 5004, Tarpon Springs, Florida 33688-5004.
Florida | Treasure Island (City), Pinellas County | Gulf of Mexico | Approximately 1,000 feet west of the intersection of Dolphin Drive and Paradise Boulevard | •10 | •11
|  |  | Approximately 900 feet west of the intersection of 125th Avenue and Gulf Boulevard | •15 | •17
Maps available for inspection at the Treasure Island City Hall, Building Department, 120 108th Avenue, Treasure Island, Florida.
Send comments to Mr. Charles Coward, Treasure Island City Manager, 120 108th Avenue, Treasure Island, Florida 33706.
Indiana | Hamilton (Town), DeKalb and Steuben Counties | Fish Creek | Approximately 2,750 feet downstream of Bellfountain Road | None | *888
|  |  | Approximately 740 feet upstream of South Wayne Street | None | *891
Maps available for inspection at the Hamilton Town Hall, 7750 South Wayne Street, Hamilton, Indiana.
Send comments to Mr. Brent Shull, President of the Town of Hamilton Council, P.O. Box 310, Hamilton, Indiana 46742.
Illinois | Carbon Cliff (Village), Rock Island County | Unnamed Creek | Approximately 1,750 feet upstream of the Chicago, Rock Island and Pacific Railroad | *476 | *477
|  |  | Approximately 560 feet upstream of the confluence of Tributary 3 to Unnamed Creek | None | *657
|  | Tributary 1 to Unnamed Creek | At the confluence with Unnamed Creek | None | *594
|  |  | Approximately 0.6 mile upstream of the confluence with Unnamed Creek | None | *636
|  | Tributary 2 to Unnamed Creek | At the confluence with Unnamed Creek | None | *622
|  |  | Approximately 960 feet upstream of the confluence with Unnamed Creek | None | *640
|  | Tributary 3 to Unnamed Creek | At the confluence with Unnamed Creek | None | *650
|  |  | Approximately 800 feet upstream of the confluence with Unnamed Creek | None | *662
|  | Shallow Flooding Area | Approximately 400 feet southeast of intersection of 1st Avenue and 5th Street | *576 | #1
|  |  | Approximately 200 feet southwest of intersection of 1st Avenue and 5th Street | None | #1
Maps available for inspection at Carbon Cliff Village Hall, 106 First Avenue, Carbon Cliff, Illinois.
Send comments to Mr. Kenneth Williams, Carbon Cliff Village President, 106 First Avenue, P.O. Box 426, Carbon Cliff, Illinois 61239.
Massachusetts | Worcester (City), Worcester County | Broad Meadow Brook | Approximately 240 feet downstream of U.S. Highway 20 | None | *450
|  |  | Approximately 1.6 miles upstream of U.S. Highway 20 | None | *484
|  | Beaver Brook | Approximately 175 feet downstream of Mill Street bridge | *482 | *480
|  |  | At Maywood Street | *484 | *481
Maps available for inspection at the Worcester Environmental/Land Use Planner's Office, 25 Meade Street, Worcester, Massachusetts.
Send comments to Mr. Thomas R. Hoover, Worcester City Manager, Worcester City Hall, 455 Main Street, Worcester, Massachusetts 01608.
Mississippi | Gulfport (City), Harrison County | Flat Branch | Approximately 525 feet upstream of Dedeaux Road | *19 | *20
|  |  | Downstream side of U.S. Highway 49 | *45 | *50
Maps available for inspection at the Gulfport City Hall, 2309 15th Street, Gulfport, Mississippi.
Send comments to The Honorable Ken Combs, Mayor of the City of Gulfport, P.O. Box 1780, Gulfport, Mississippi 39502.
New Jersey | Florham Park (Borough), Morris County | Spring Garden Brook | Approximately 200 feet downstream of Brooklake Road | *176 | *175
|  |  | At the upstream corporate limits | *188 | *182
Maps available for inspection at the Florham Park Municipal Building, Public Works Office, 111 Ridgedale Avenue, Florham Park, New Jersey.
Send comments to The Honorable Barbara B. Doyle, Mayor of the Borough of Florham Park, Municipal Building, 111 Ridgedale Avenue, Florham Park, New Jersey 07932.
New Jersey | Rahway (City), Union County | Rahway River | At the downstream corporate limits | *12 | *9
|  |  | Approximately 30 feet upstream of Monroe Street | *12 | *11
|  | South Branch | At the confluence with the Rahway River | *12 | *11
|  |  | Approximately 528 feet upstream of East Inman Avenue | *12 | *11
Maps available for inspection at the Rahway City Hall, Department of Engineering, City Hall Plaza, Rahway, New Jersey.
Send comments to The Honorable James Kennedy, Mayor of the City of Rahway, City Hall Plaza, Rahway, New Jersey 07065.
New Jersey | Weymouth (Township), Atlantic County | Tuckahoe River | At the downstream corporate limits | None | *56
|  |  | At the upstream corporate limits | None | *77
|  | Great Egg Harbor River | At teh confluence of the South River | None | *9
|  |  | At the upstream corporate limits | None | *9
|  | South River | At Walkers Forge Avenue | None | *16
|  |  | Approximately 500 feet upstream of upstream corporate limits | None | *38
Maps available for inspection at the Weymouth Township Hall, 45 South Jersey Avenue, Dorothy, New Jersey.
Send comments to The Honorable Amelia A. Messina, Mayor of the Township of Weymouth, P.O. Box 53, Dorothy, New Jersey 08317.
New York | Mina (Town), Chautauqua County | Findley Lake | Entire shoreline of Findley Lake | None | *1,423
Maps available for inspection at Mina Town Community Center, 2883 North Road, Findley Lake, New York.
Send comments to Ms. Rebecca Brumagin, Mina Town Supervisor, P.O. Box 38, 2883 North Road, Findley Lake, New York 14736.
North Carolina | Cramerton (Town), Gaston County | Duharts Creek | Approximately 0.86 mile upstream of confluence with South Fork Catawba River | *577 | *578
|  |  | Approximately 1.31 miles upstream of 8th Avenue | *601 | *611
Maps available for inspection at the Cramerton Town Hall, 155 North Main Street, Cramerton, North Carolina.
Send comments to The Honorable Cathy Biles, Mayor of the Town of Cramerton, 155 North Main Street, Cramerton, North Carolina 28032.
Pennsylvania | Bullskin (Township), Fayette County | Jacobs Creek | At the downstream corporate limits | *1,039 | *1,037
|  |  | At a point approximately 250 feet upstream of State Route 31 | *1,143 | *1,142
Maps available for inspection at the Bullskin Township Municipal Building, 178 Shenandoah Road, Connellsville, Pennsylvania.
Send comments to Mr. Robert Butler, Chairman of the Township of Bullskin Board of Supervisors, 178 Shenandoah Road, Connellsville, Pennsylvania 15425.
Pennsylvania | Everson (Borough), Fayette County | Jacobs Creek | Approximately 2,400 feet downstream of 5th Avenue | *1,027 | *1,025
|  |  | Upstream corporate limits | *1,031 | *1,029
Maps available for inspection at Everson Borough Building, Brown Street, Everson, Pennsylvania.
Send comments to The Honorable Timothy Shoemaker, Mayor of the Borough of Everson, Municipal Building, Brown Street, Everson, Pennsylvania 15631.
Pennsylvania | Upper Tyrone (Township), Fayette County | Jacobs Creek | At State Route 819 | *1,021 | *1,020
|  |  | At upstream corporate limits | *1,039 | *1,037
|  | Stauffer Run | At confluence with Jacobs Creek | *1,034 | *1,030
|  |  | At upstream corporate limits | *1,034 | *1,031
Maps available for inspection at the Upper Tyrone Township Building, 259 Montgomery Road, Scottdale, Pennsylvania.
Send comments to Mr. Jack E. Fullem, Upper Tyrone Township Supervisor, 509 Hickory Square Road, Connellsville, Pennsylvania 15425.
Tennessee | Fairview (City), Williamson County | Hunting Camp Creek | At upstream side of Fernvale Road | None | *703
|  |  | A point approximately 0.75 miles upstream of Chester Creek Road | None | *822
|  | Hunting Camp Creek Tributary No. 2 | At Fernvale Road | None | *701
|  |  | Approximately 30 feet upstream of Chester Road | None | *794
|  | Hunting Camp Creek Tributary No. 3 | At Fernvale Road | None | *701
|  |  | Approximately 275 feet upstream of State Route 100 | None | *804
|  | Hunting Camp Creek Tributary 4 | At the confluence with Hunting Camp Creek Tributary No. 3 | None | *721
|  |  | Approximately 200 feet upstream of Chester Road | None | *798
|  | Hunting Camp Creek Tributary No. 5 | At the confluence with Hunting Camp Creek Tributary No. 2 | None | *790
|  |  | Approximately 2 feet upstream of Chester Road | None | *794
Maps available for inspection at the City of Fairview Codes Administration Building, 216 Highway 96 North, Fairview, Tennessee.
Tennessee | Goodlettsville (City), (Davidson and Sumner Counties) | Slaters Creek | At the confluence with Mansker Creek | *454 | *452
|  |  | Approximately 1,640 feet upstream of Long Drive | *476 | *475
|  | Pattens Branch | At the confluence of Madison Creek | None | *466
|  |  | Approximately 1,640 feet upstream of most upstream crossing of Pattens Branch Road | None | *521
|  | Goodlettsville Outlet Ditch | At the confluence with Mansker Creek | *436 | *437
|  |  | At the downstream side of Old Long Hollow Pike | *436 | *437
|  | Madison Creek | At the confluence with Mansker Creek | *430 | *432
|  |  | Approximately 1.51 miles upstream of Pattens Branch | None | *535
|  | Mansker Creek | At the confluence of Madison | *430 | *432
|  |  | Approximately 1,450 feet upstream of the most upstream crossing of U.S. Route 41 | *486 | *485
|  | Willis Branch | At the confluence with Madison Creek | *430 | *432
|  |  | Approximately 0.12 mile upstream of the confluence with Madison Creek | *431 | *432
Maps available for inspection at Goodlettsville City Hall, 105 South Main Street, Goodlettsville, Tennessee.
Send comments to The Honorable Bobby T. Jones, Mayor of the City of Goodlettsville, City Hall, 105 South Main Street, Goodlettsville, Tennessee 37072.
Tennessee | Murfreesboro (City), Rutherford County | Lytle Creek | At the confluence with West Fork Stones River | *575 | *571
|  |  | At a point approximately 200 feet upstream of Country Club Drive | *604 | *602
|  | Sinking Creek | At the confluence with West Fork Stones River | *548 | *547
|  |  | Approximately 0.6 mile upstream of Thompson Lane | *548 | *547
|  | Unnamed Tributary of West Fork of West Fork Stones River | At the confluence with West Fork Stones River | *589 | 585
|  |  | Approximately 0.54 mile upstream of confluence with West Fork Stones River | *589 | 585
|  | West Fork Stones River | Approximately 0.7 mile upstream of I-840 | *544 | *543
|  |  | At the confluence of Middle Fork Stones River | *597 | *595
|  | Middle Fork Stones River | At the confluence with West Fork Stones River | *597 | *595
|  |  | Approximately 0.52 mile upstream of confluence with West Fork Stones River | *597 | *595
|  | Sink Hole #2 | Entire perimeter of the sink | None | *595
|  | Sink Hole #3 | Entire perimeter of the sink hole | None | *585
Maps available for inspection at the City of Murfreesboro Planning Department, City Hall, 111 West Vine Street, Murfreesboro, Tennessee.
Send comments to The Honorable Richard Reeves, Mayor of the City of Murfreesboro, P.O. Box 1139, Murfreesboro, Tennessee 37133.
Tennessee | Rutherford County (Unincorporated Areas) | Lytle Creek | At a point approximately 455 feet upstream of Sanbyrn Drive | *601 | *599
|  |  | At a point approximately 1.26 miles upstream of Dilton-Mankin Road | *657 | *656
|  | West Fork Stones River | At a point approximately 0.35 mile upstream of Sulphur Springs Road | *526 | *525
|  |  | At a point approximately 1.28 miles upstream of Stones River Road | *676 | *675
|  | Sinking Creek | At the confluence with West Fork Stones River | *548 | *547
|  |  | Approximately 250 feet downstream of Thompson Lane | *548 | *547
|  | Lees Spring Branch | At the confluence with Lytle Creek | *621 | *620
|  |  | Approximately 500 feet upstream of confluence with Lytle Creek | *621 | *620
|  | Unnamed Tributary of West Fork Stones River | Approximately 0.54 mile upstream of confluence with West Fork Stones River | *589 | *585
|  |  | Approximately 106 feet upstream of State Highway 99 | *589 | *588
|  | Todds Lake | Entire shoreline within the community | None | *613
|  | Middle Fork Stones River | At the confluence with West Fork Stones River | *597 | *595
|  |  | Approximately 0.52 upstream of confluence with West Fork Stones River | *597 | *596
Maps available for inspection at Rutherford County Planning Department, #1 Southside Square, Murfreesboro, Tennessee.
Send comments to Ms. Nancy Allen, Rutherford County Executive, County Courthouse, Public Square, Room 101, Murfreesboro, Tennessee 37130.
Tennessee | Williamson County (Unincorporated Areas) | Hunting Camp Creek | Approximnately 55 feet downstream of the confluence of Hunting Camp Creek Tributary No. 3 | None | *680
|  |  | At upstream side of Fernvale Road | None | *703
|  | Hunting Camp Creek Tributary | At the confluence with Hunding Camp Creek | None | *684
|  |  | At Fernvale Road | None | *701
|  | Hunting Camp Creek Tributary No. 3 | At the confluence with Hunting Camp Creek | None | *681
|  |  | At upstream side of Fernvale Road | None | *702
Maps available for inspection at the Williamson County Emergency Management Agency, 1320 West Main Street, Suite B30, Franklin Tennessee.
Send comments to Mr. Clint Callicott, Williamson County Executive, 1320 West Main Street, Suite 125, Franklin, Tennessee 37064.
Virginia | Grottoes (Town), Augusta and Rockingham Counties | Miller Run | Approximately 160 feet downstream of 21st Street | None | *1,090
|  |  | Approximately 60 feet upstream of Cary Street | None | *1,152
Maps available for inspection at the Grottoes Town Office, 601 Dogwood Avenue, Grottoes, Virginia.
Send comments to Mr. Timothy E. Crider, Grottoes Town Superintendent, P.O. Box 146, Grottoes, Virginia 24441.

(Catalog of Federal Domestic Assistance No. 83.100, “Flood Insurance.”)

Dated: March 5, 2002.
Robert F. Shea,
Acting Administrator, Federal Insurance and Mitigation Administration.

[FR Doc. 02-5836 Filed 3-11-02; 8:45 am]

BILLING CODE 6718-04-P